DEPARTMENT OF COMMERCE

International Trade Administration

[A-552-802]

Certain Frozen Warmwater Shrimp from the Socialist Republic of Vietnam: Extension of Final Results of Antidumping Duty New Shipper Review

AGENCY: Import Administration, International Trade Administration, Department of Commerce.

SUMMARY: The Department of Commerce (“Department”) is extending the time limit for the final results of the new shipper review of certain frozen warmwater shrimp (“shrimp”) from the Socialist Republic of Vietnam (“Vietnam”). This review covers the period February 1, 2008 through January 31, 2009.

EFFECTIVE DATE: May 18, 2010.

FOR FURTHER INFORMATION CONTACT: Toni Dach or Paul Walker, AD/CVD Operations, Office 9, Import Administration, International Trade Administration, U.S. Department of Commerce, 14th Street and Constitution Avenue, NW, Washington, DC 20230; telephone: (202) 482-1655 or (202) 482-0413, respectively.

SUPPLEMENTARY INFORMATION:

Background

On January 21, 2010, the Department published its notice of preliminary intent to rescind the new shipper review in the antidumping duty order on shrimp from Vietnam for Nhat Duc Co., Ltd. See Certain Frozen Warmwater Shrimp From the Socialist Republic of Vietnam: Preliminary Intent To Rescind New Shipper Review, 75 FR 3446 (January 21, 2010) (“Preliminary Rescission”). On April 20, 2010, the Department extended the time limit to complete its final results of this review by 30 days. See Certain Frozen Warmwater Shrimp from the Socialist Republic of Vietnam: Extension of Final Results of Antidumping Duty New Shipper Review, 75 FR 20563 (April 20, 2010). The final results of this review are currently due no later than May 19, 2010.¹

¹ Due to the extended closure of the Government between February 5 and 11, 2010, all deadlines for active cases were tolled by one calendar week. See Memorandum From Ronald Lorentzen, DAS for Import Administration, Regarding Tolling of Administrative Deadlines As a Result of the Government Closure During the Recent Snowstorm, available at http://ia.ita.doc.gov/download/administrative-deadline-tolling-memo-021210.pdf.

Statutory Time Limits

In antidumping duty new shipper reviews, section 751(a)(2)(B)(iv) of the Tariff Act of 1930, as amended (“the Act”), and 19 CFR 351.214(i)(1) requires the Department to issue the final results of a new shipper review within 90 days after the date on which the preliminary results are issued. However, the Department may extend the deadline for completion of the final results of a new shipper review to 150 days after the date on which the preliminary results are issued if it determines that the case is extraordinarily complicated. See 19 CFR 351.214(i)(2)

Extension of Time Limit for Final Results of Review

The Department has determined that the review is extraordinarily complicated as the Department must analyze extensive comments received from interested parties on its Preliminary Rescission. Based on the timing of the case and the extensive arguments that must be analyzed, the final results of this new shipper review cannot be completed within the extended statutory time limit of 120 days after the date upon which the preliminary results were issued.

Therefore, the Department is extending the time limit for completion of the final results of this new shipper review by an additional 30 days from the May 19, 2010 deadline. The final results will now be due no later than June 18, 2010.

We are issuing and publishing this notice in accordance with sections 751(a)(2)(B)(iv) and 777(i) of the Act.

Dated: May 11, 2010.
John M. Andersen,
Acting Deputy Assistant Secretary for Antidumping and Countervailing Duty Operations.

[FR Doc. 2010-11868 Filed 5-17ndash;10; 8:45 am]

BILLING CODE 3510-DS-S